DEPARTMENT OF ENERGY

Federal Energy Regulatory Commission

18 CFR Part 35

Filing of Rate Schedules and Tariffs

CFR Correction

In Title 18 of the Code of Federal Regulations, parts 1 to 399, revised as of April 1, 2015, on page 273, § 35.4 is revised to read as follows:

§ 35.4 Permission to become effective is not approval. [Corrected]

The fact that the Commission permits a rate schedule or tariff, tariff or service agreement or any part thereof or any notice of cancellation to become effective shall not constitute approval by the Commission of such rate schedule or tariff, tariff or service agreement or part thereof or notice of cancellation.

[FR Doc. 2016-07566 Filed 3-31-16; 8:45 am]

BILLING CODE 1505-01-D